NATIONAL SCIENCE FOUNDATION

Committee on Equal Opportunities in Science & Engineering; Notice of Meeting

In accordance with the Federal Advisory Committee Act (Pub. L. 92-463, as amended), the National Science Foundation (NSF) announces the following meeting:

Name and Committee Code: Committee on Equal Opportunities in Science & Engineering (#1173) (Virtual).

Date and Time: February 13, 2025; 1 p.m.-5:30 p.m. (eastern) and February 14, 2025; 10 a.m.-3:30 p.m. (eastern)

Place: National Science Foundation, 2415 Eisenhower Avenue, Alexandria, VA 22314 (Virtual). Meeting Registration: Virtual attendance information will be forthcoming on the CEOSE website at http://www.nsf.gov/od/oia/activities/ceose/index.jsp.

Type of Meeting: Open.

Contact Persons: Dr. Bernice Anderson, Senior Advisor and CEOSE Executive Secretary, Office of Integrative Activities (OIA); National Science Foundation, 2415 Eisenhower Avenue, Alexandria, VA 22314. Contact Information: Phone: 703-292-8040, Email: banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda: CEOSE Agenda-at-a-Glance (February 13-14, 2025)

Day 1

1 p.m.-2 p.m. Opening, Welcome, Introduction

2 p.m.-2:30 p.m. Presentation: Report of the CEOSE Executive Liaison

2:30 p.m.-3 p.m. Presentation: Broadening Participation in the SBE Sciences

3 p.m.-3:15 p.m. Break

3:15 p.m.-4:30 p.m. Panel: Institutional Transformation

4:30 p.m.-5:30 p.m. Discussion: Reports of the CEOSE AC Liaisons

Day 2

10 a.m.-10:15 a.m. Opening Remarks

10:15 a.m.-11:15 a.m. Discussion: Dissemination of the 2023-2024 CEOSE Report

11:15 a.m.-12 p.m. Discussion: 2025-2026 CEOSE Report

12 p.m.-1:30 p.m. Working Lunch: Topics/Advice to Share with NSF Senior Leadership

1:30 p.m.-2 p.m. Discussion with NSF Leadership

2 p.m.-2:15 p.m. Break

2:15 p.m.-3 p.m. Reflections and Advice to New Members

3 p.m.-3:30 p.m. Announcements, Closing Remarks, Adjournment

Dated: January 13, 2025.
Crystal Robinson,
Committee Management Officer.

[FR Doc. 2025-00982 Filed 1-15-25; 8:45 am]

BILLING CODE 7555-01-P